DEPARTMENT OF JUSTICE

Notice of Lodging of Proposed Consent Decree Under the Clean Air Act and Emergency Planning and Community Right-To-Know Act

On July 26, 2023 the Department of Justice lodged a proposed Consent Decree with the United States District Court for the District of Rhode Island in the lawsuit entitled United States v. Taylor Farms New England, Inc., Civil Action No. 1:23-cv-00311.

The United States filed this lawsuit under the Clean Air Act and the Emergency Planning and Community Right-To-Know Act. The United States' complaint seeks injunctive relief and civil penalties for violations of the statutory and regulatory provisions that govern the prevention and notice of accidental releases of extremely hazardous substances at the defendant's food processing facility in North Kingstown, Rhode Island. The consent decree requires the defendant to perform injunctive relief and pay a $650,000 civil penalty.

The publication of this notice opens a period for public comment on the Consent Decree. Comments should be addressed to the Assistant Attorney General, Environment and Natural Resources Division, and should refer to United States v. Taylor Farms New England, Inc., D.J. Ref. No. 90-5-2-1-12458. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Henry S. Friedman,
Assistant Section Chief, Environmental Enforcement Section, Environment and Natural Resources Division.

[FR Doc. 2023-16191 Filed 7-28-23; 8:45 am]

BILLING CODE 4410-15-P